DEPARTMENT OF AGRICULTURE

Forest Service

Final Record of Decision for the Custer Gallatin National Forest

AGENCY: Forest Service, Agriculture (USDA).

ACTION: Notice of approval for the Revised Land Management Plan for the Custer Gallatin National Forest.

SUMMARY: Mary Erickson, the Forest Supervisor for the Custer Gallatin National Forest, Northern Region, signed the record of decision (ROD) for the Revised Land Management Plan (Land Management Plan) for the Custer Gallatin National Forest. The ROD documents the rationale for approving the Land Management Plan and is consistent with the Reviewing Official's response to objections and instructions.

DATES: The Revised Land Management Plan for the Custer Gallatin National Forest will become effective 30 days after the publication of this notice of approval in the Federal Register (36 CFR 219.17(a)(1)).

ADDRESSES: To view the final ROD, final environmental impact statement (FEIS), Land Management Plan, and other related documents, please visit the Custer Gallatin National Forest Plan Revision website at: https://www.fs.usda.gov/detail/custergallatin/landmanagement/planning/?cid=FSEPRD897383. A legal notice of approval is also being published in the Custer Gallatin National Forest's newspapers of record: Bozeman Daily Chronicle, Billings Gazette, and Rapid City Journal. A copy of this legal notice will be posted on the website listed above.

FOR FURTHER INFORMATION CONTACT: Virginia Kelly, Project Leader, weekdays, 8:00 a.m. to 4:30 p.m. Mountain Standard Time, at 406-587-6701. Written requests for information may be sent to Custer Gallatin National Forest, Attn: Plan Revision, P.O. Box 130, Bozeman, MT 59771.

Individuals who use telecommunication devices for the deaf/hard-of-hearing (TDD) may call the Federal Relay Service (FRS) at 1-800-877-8339, 24 hours a day, every day of the year, including holidays.

SUPPLEMENTARY INFORMATION: The Land Management Plan describes the Custer Gallatin National Forest's distinctive roles and contributions within the broader landscape and details forestwide and geographic area desired conditions, objectives, standards, and guidelines. It identifies suitable uses of National Forest System lands and provides estimates of the planned timber sale quantity. The Land Management Plan identifies priority watersheds for restoration and includes recommended wilderness areas and eligible wild and scenic rivers. This Land Management Plan provides for efficient and effective management of the Custer Gallatin National Forest with desired conditions for coordination, partnerships, and shared stewardship with State, local, and Tribal governments, other federal agencies, adjacent landowners, and stakeholders. The development of the Land Management Plan was shaped by the best available scientific information, current laws, and public input.

The Custer Gallatin National Forest initiated plan revision in winter 2016 with public meetings held at multiple locations across the planning area. The Forest invited Tribal governments, State, local and other federal agencies from around the region to participate in the process to revise the Land Management Plan. An interagency working group met regularly throughout the plan revision effort. After two years of public engagement the Forest released the Proposed Action in January 2018. Comments received on the Proposed Action were used in development of the draft Land Management Plan and draft environmental impact statement (EIS) which were released in March 2019. The Forest received over 21,000 public comments on the draft Land Management Plan. The Land Management Plan, FEIS, and draft ROD were released in July 2020, initiating a 60-day opportunity to object. The Forest Service received 677 eligible objections. The Regional Forester, Reviewing Official, issued a written response to the objection issues on April 15, 2021.

The final ROD to approve the Revised Land Management Plan has now been signed by the Responsible Official and is available at the website listed above.

Responsible Official

The Responsible Official for approving the Land Management Plan is Mary Erickson, Forest Supervisor, Custer Gallatin National Forest.

Dated: January 21, 2022.
Barnie Gyant,
Associate Deputy Chief, National Forest System.

[FR Doc. 2022-01727 Filed 1-27-22; 8:45 am]

BILLING CODE 3411-15-P